DEPARTMENT OF JUSTICE

Office of Justice Programs

Agency Information Collection Activities; Proposed eCollection eComments Requested; Discontinuation; Correction

AGENCY: Office of Justice Programs, Department of Justice.

ACTION: Notice; Correction.

SUMMARY: The Department of Justice, Office of Justice Programs, submitted a 60-day notice for publishing in the Federal Register on September 27, 2021 soliciting comments to an information collection request to the Office of Management and Budget (OMB) for review and approval in accordance with the Paperwork Reduction Act of 1995. This notice was incorrectly submitted. This information collection request will be discontinued as no immediate data collection is planned.

FOR FURTHER INFORMATION CONTACT: Samantha Opong, Program Specialist, SMART Office, 810 7th Street NW, Washington, DC 20531, Samantha.Opong@usdoj.gov, (202) 514-9320.

Correction: In the Federal Register of September 27, 2021 in FR Doc. 2021-20834, on pages 53348-53349, the information collection request is reflected as an extension. This information collection request will be discontinued as no immediate data collection is planned.

Melody Braswell,
Department Clearance Officer.

[FR Doc. 2021-22442 Filed 10-13-21; 8:45 am]

BILLING CODE 4410-18-P